DEPARTMENT OF HEALTH AND HUMAN SERVICES

White House Commission on Complementary and Alternative Medicine Policy; Notice of Meeting

Pursuant to section 10(d) of the Federal Advisory Committee Act, as amended (5 U.S.C. appendix 2), notice is given of the first meeting of the White House Commission on Complementary and Alternative Medicine Policy. The purpose of the meeting is to convene the Commission and to begin receiving public testimony from individuals and organizations interested in the subject of federal policy regarding complementary and alternative medicine. Comments received at the meeting will be used by the Commission to identify and frame the issues and develop the agenda for subsequent meetings. Comments should focus on the following issues:

(1) The education and training of health care practitioners in complementary and alternative medicine;

(2) Coordinated research to increase knowledge about complementary and alternative medicine practices and products;

(3) The provision to health care professionals of reliable and useful information about complementary and alternative medicine that can be made readily accessible and understandable to the general public; and

(4) Guidance for appropriate access to and delivery of complementary and alternative medicine.

Some Commission members may participate by telephone conference. The meeting is open to the public and opportunities for statements by the public will be provided on July 14, from 11:30 a.m.-12:30 p.m.

Name of Committee: White House Commission on Complementary and Alternative Medicine Policy.

Date: July 13-14, 2000.

Time: July 13—2:00 p.m.-5:30 p.m. July 14—8:30 a.m.-5:00 p.m.

Place: Hubert H. Humphrey Building, Room 800, 200 Independence Avenue, SW., Washington, DC 20201.

Contact Person: Stephen Groft, Pharm. D., Executive Director, 6701 Rockledge Drive, Room 1010, Bethesda, MD 20817-1813, Phone: (301) 435-6199, Fax: (301) 480-1691.

Because of the need to obtain the views of the members as soon as possible and because of the early deadline for the report(s) required of the Commission, this notice is being provided at the earliest possible time.

Supplementary Information: The President established the White House Commission on Complementary and Alternative Medicine Policy on March 7, 2000 by Executive Order 13147. The mission of the White House Commission on Complementary and Alternative Medicine Policy is to provide a report, through the Secretary of the Department of Health and Human Services, on legislative and administrative recommendations for assuring that public policy maximizes the benefits of complementary and alternative medicine to Americans.

Public Participation

The meeting is open to the public with attendance limited by the availability of space on a first come, first serve basis. Members of the public who wish to present oral statements should contact Dr. Stephen C. Groft by telephone, fax, or mail as shown above as soon as possible, but at least 4 days before the meeting. A one-page summary of the presentation should accompany any request. The chairperson will reserve time for presentations by persons requesting to speak and asks that oral statements be limited to five minutes. The order of persons wanting to make a statement will be assigned in the order in which requests are received.

Individuals unable to make oral presentations can mail their written comments to the staff office of the Commission at least 4 business days prior to the meeting for distribution to the Commission and inclusion in the public record.

Any person attending the meeting who has not requested an opportunity to speak in advance of the meeting will be allowed to make a brief oral presentation at the conclusion of the meeting, if time permits, at the chairperson's discretion.

Due to time constraints, only one representative from each organization will be allowed to present oral testimony.

Persons needing special assistance, such as sign language interpretation or other special accommodations, should contact the Commission staff at the address or telephone number listed below as soon as possible.

Dated: July 6, 2000.
LaVerne Y. Stringfield,
Director, Office of Federal Advisory Committee Policy.

[FR Doc. 00-17695 Filed 7-12-00; 8:45 am]

BILLING CODE 4140-01-M